DEPARTMENT OF COMMERCE

International Trade Administration

[A-570-082]

Certain Steel Wheels From the People's Republic of China: Final Results of Expedited Sunset Review of the Antidumping Duty Order

AGENCY: Enforcement and Compliance, International Trade Administration, Department of Commerce.

SUMMARY: The U.S. Department of Commerce (Commerce) finds that revocation of the antidumping duty (AD) order on certain steel wheels (steel wheels) from the People's Republic of China (China) would be likely to lead to continuation or recurrence of dumping. The magnitude of the dumping margin likely to prevail is indicated in the “Final Results of Sunset Review” section of this notice.

DATES: Applicable August 9, 2024.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On May 24, 2019, Commerce published the AD Order on steel wheels from China.¹ On April 1, 2024, Commerce published the notice of initiation of the first five-year sunset review of the Order.² On May 24, 2024, Commerce received a timely notice of intent to participate from Accuride Corporation (Accuride) and Maxion Wheels USA LLC (Maxion),³ domestic interested parties (the petitioners), within the deadline specified in 19 CFR 351.218(d)(1)(i).⁴ On May 1, 2024, Commerce received adequate substantive responses from the petitioners within the 30-day period specified in 19 CFR 351.218(d)(3)(i).⁵ The petitioners claimed interested party status under section 771(9)(C) of the Tariff Act of 1930, as amended (the Act).⁶ We received no substantive responses from any respondent interested parties. As a result, pursuant to section 751(c)(3)(B) of the Act and 19 CFR 351.218(e)(1)(ii)(C)(2), Commerce conducted an expedited (120-day) sunset review of the Order, which was due on July 30, 2024. On July 22, 2024, Commerce tolled certain deadlines in this administrative proceeding by seven days.⁷ The deadline for the preliminary results is now August 6, 2024.

¹ See Certain Steel Wheels from the People's Republic of China: Antidumping and Countervailing Duty Orders, 84 FR 24098 (May 24, 2019) (Order).

² See Initiation of Five-Year (Sunset) Reviews, 89 FR 22373 (April 1, 2024).

³ Maxion was a previously petitioner under the corporate name Maxion Wheels Akron LLC.

⁴ See Petitioners' Letter, “Notice of Intent to Participate in the First Five-Year Review,” dated April 16, 2024.

⁵ See Petitioners' Letter, “Petitioners' Substantive Response to the Notice of Initiation,” dated May 1, 2024.

⁶ Id.

⁷ See Memorandum, “Tolling of Deadlines for Antidumping and Countervailing Duty Proceedings,” dated July 22, 2024.

Scope of the Order

The scope of the Order covers certain on the road steel wheels, discs, and rims for tubeless tires, with a nominal rim diameter of 22.5 inches and 24.5 inches, regardless of width. For a full description of the scope of the Order, see the Issues and Decision Memorandum.⁸

⁸ See Memorandum, “Decision Memorandum for the Final Results of the Expedited Sunset Review of the Antidumping Duty Order on Certain Steel Wheels from the People's Republic of China,” dated concurrently with, and hereby adopted by, this notice (Issues and Decision Memorandum).

Analysis of Comments Received

All issues raised in this sunset review are addressed in the accompanying Issues and Decision Memorandum, which is hereby adopted by this notice. The issues discussed in the Issues and Decision Memorandum are listed as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Final Results of Sunset Review

Pursuant to sections 752(c)(1) and (3) of the Act, Commerce determines that revocation of the Order on steel wheels from China would be likely to lead to continuation or recurrence of dumping, and that the magnitude of the margin of dumping likely to prevail if the Order is revoked for steel wheels from China is up to 231.70 percent.

Administrative Protective Order

This notice also serves as the only reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

Notification to Interested Parties

We are issuing and publishing the final results of this expedited sunset review in accordance with sections 751(c), 752(c), and 777(i) of the Act, and 19 CFR 351.218.

Dated: August 5, 2024.
Scot Fullerton,
Acting Deputy Assistant Secretary for Antidumping and Countervailing Duty Operations.

Appendix

List of Topics Discussed in the Issues and Decision Memorandum

I. Summary

II. Background

III. Scope of the Order

IV. History of the Order

V. Legal Framework

VI. Discussion of the Issues

1. Likelihood of Continuation or Recurrence of Dumping

1. Magnitude of the Margin of Dumping Likely To Prevail

VII. Final Results of Sunset Review

VIII. Recommendation

[FR Doc. 2024-17759 Filed 8-8-24; 8:45 am]

BILLING CODE 3510-DS-P